ENVIRONMENTAL PROTECTION AGENCY

40 CFR Part 52

[EPA-R04-OAR-2017-0356; FRL-9963-19-Region 4]

Air Plan Approval; KY; Miscellaneous Source Specific Revisions for Jefferson County

AGENCY: Environmental Protection Agency (EPA).

ACTION: Final rule.

SUMMARY: The Environmental Protection Agency (EPA) is taking final action to approve revisions to the Kentucky State Implementation Plan (SIP), submitted by the Commonwealth of Kentucky, through the Kentucky Division for Air Quality (KDAQ), on March 21, 2011, October 29, 2013, October 28, 2016, and March 24, 2017. The revisions were submitted by KDAQ on behalf of the Louisville Metro Air Pollution Control District, which has jurisdiction over Jefferson County, Kentucky. The revisions include changes to Jefferson County Regulations regarding Reasonably Available Control Technology (RACT) for two major sources of nitrogen oxides (NOx) and the removal of a volatile organic compounds (VOC) bubble rule.

DATES: This rule will be effective November 13, 2017.

ADDRESSES: EPA has established a docket for this action under Docket Identification No. EPA-R04-OAR-2017-0356. All documents in the docket are listed on the www.regulations.gov Web site. Although listed in the index, some information is not publicly available, i.e., Confidential Business Information or other information whose disclosure is restricted by statute. Certain other material, such as copyrighted material, is not placed on the Internet and will be publicly available only in hard copy form. Publicly available docket materials are available either electronically through www.regulations.gov or in hard copy at the Air Regulatory Management Section, Air Planning and Implementation Branch, Air, Pesticides and Toxics Management Division, U.S. Environmental Protection Agency, Region 4, 61 Forsyth Street SW., Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Joel Huey, Air Planning and Implementation Branch, Air, Pesticides and Toxics Management Division, U.S. Environmental Protection Agency, Region 4, 61 Forsyth Street SW., Atlanta, Georgia 30303-8960 or Andres Febres, Air Regulatory Management Section, Air Planning and Implementation Branch, Air, Pesticides and Toxics Management Division, U.S. Environmental Protection Agency, Region 4, 61 Forsyth Street SW., Atlanta, Georgia 30303-8960. Mr. Huey can be reached by telephone at (404) 562-9104 or via electronic mail at huey.joel@epa.gov. Mr. Febres can be reached by telephone at (404) 562-8966 or via electronic mail at febres-martinez.andres@epa.gov.

SUPPLEMENTARY INFORMATION:

I. Background

In an August 10, 2017, proposed rulemaking, EPA proposed to approve changes to the Jefferson County portion of the Kentucky SIP that were received by EPA on March 21, 2011. 82 FR 37375. The August 10, 2017, rulemaking proposed to approve the March 21, 2011, SIP revision with modifications made through three addition submittals received by EPA on October 29, 2013, October 28, 2016, and March 24, 2017. Approval of Kentucky's March 21, 2011, submission, with the modifications from the October 29, 2013, October 28, 2016, and March 24, 2017, submissions, would: (1) Make several changes to Regulation 6.29, Standard of Performance for Graphic Arts Facilities Using Rotogravure or Flexographic Printing; (2) remove Regulation 7.57, Standard of Performance for New Graphic Arts Facilities Using Rotogravure or Flexographic Printing; (3) incorporate Amendment 4 to the Louisville Medical Steam Plant NOX RACT Board Order into the Jefferson County portion of the Kentucky SIP; (4) incorporate Amendment 3 to the Texas Gas Transmission NOX RACT Board Order into the Jefferson County portion of the Kentucky SIP; and (5) remove a VOC bubble rule for the General Electric plant in Louisville, Kentucky. The details of Kentucky's SIP revisions and the rationale for EPA's action are explained in the proposed rulemaking. Comments on the proposed rulemaking were due on or before September 11, 2017. EPA did not receive any comments on the proposed action, adverse or otherwise.

II. Incorporation by Reference

In this rule, EPA is finalizing regulatory text that includes incorporation by reference. In accordance with requirements of 1 CFR 51.5, EPA is finalizing the incorporation by reference of Jefferson County's Regulation 6.29, Standard of Performance for Graphic Arts Facilities Using Rotogravure or Flexographic Printing, effective August 21, 2013; “Board Order Texas Gas Transmission” NOX RACT Plan, effective May 18, 2016; and “Board Order Louisville Medical Center Steam Plant” NOX RACT Plan, effective January 18, 2017. EPA has made, and will continue to make, these materials generally available through www.regulations.gov and/or at the EPA Region 4 Office (please contact the person identified in the FOR FURTHER INFORMATION CONTACT section of this preamble for more information). Therefore, these materials have been approved by EPA for inclusion into Kentucky's SIP, have been incorporated by reference by EPA into that plan, are fully federally-enforceable under sections 110 and 113 of the Clean Air Act (CAA or Act) as of the effective date of the final rulemaking of EPA's approval, and will be incorporated by reference by the Director of the Federal Register in the next update to the SIP compilation.¹

¹ 62 FR 27968 (May 22, 1997).

III. Final Actions

EPA is taking final action to approve changes to the Jefferson County Air Quality Regulations portion of the Kentucky SIP. The requested revisions were provided by KDAQ to EPA on March 21, 2011, October 29, 2013, October 28, 2016, and March 24, 2017. The changes being approved: (1) Modify Regulation 6.29, (2) remove Regulation 7.57, (3) incorporate Amendment 4 to the NOX RACT Board Order for the Louisville Medical Center Steam Plant into the Jefferson County portion of the Kentucky SIP, (4) incorporate Amendment 3 to NOX RACT Board Order for the Texas Gas Transmission facility into the Kentucky SIP, and (5) remove the VOC bubble rule for the General Electric plant in Louisville, Kentucky. EPA believes these changes are consistent with the requirements of the CAA.

IV. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely approves state law as meeting Federal requirements and does not impose additional requirements beyond those imposed by state law. For that reason, these actions:

• Are not a significant regulatory action subject to review by the Office of Management and Budget under Executive Orders 12866 (58 FR 51735, October 4, 1993) and 13563 (76 FR 3821, January 21, 2011);

• do not impose an information collection burden under the provisions of the Paperwork Reduction Act (44 U.S.C. 3501 et seq.);

• are certified as not having a significant economic impact on a substantial number of small entities under the Regulatory Flexibility Act (5 U.S.C. 601 et seq.);

• do not contain any unfunded mandate or significantly or uniquely affect small governments, as described in the Unfunded Mandates Reform Act of 1995 (Pub. L. 104-4);

• do not have Federalism implications as specified in Executive Order 13132 (64 FR 43255, August 10, 1999);

• are not an economically significant regulatory action based on health or safety risks subject to Executive Order 13045 (62 FR 19885, April 23, 1997);

• are not a significant regulatory action subject to Executive Order 13211 (66 FR 28355, May 22, 2001);

• are not subject to requirements of Section 12(d) of the National Technology Transfer and Advancement Act of 1995 (15 U.S.C. 272 note) because application of those requirements would be inconsistent with the CAA; and

• do not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 11, 2017. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Incorporation by reference, Intergovernmental relations, Nitrogen dioxide, Particulate matter, Reporting and recordkeeping requirements, Sulfur oxides, Volatile organic compounds.

Dated: September 28, 2017.
Onis “Trey” Glenn, III,
Regional Administrator, Region 4.

40 CFR part 52 is amended as follows:

PART 52—APPROVAL AND PROMULGATION OF IMPLEMENTATION PLANS

1. The authority citation for part 52 continues to read as follows:

Authority: 42.U.S.C. 7401 et seq.

Subpart S—Kentucky

2. Section 52.920, Table 2, is amended:

a. In paragraph (c), by revising the entry for “6.29,” under the heading “Reg 6-Standards of Performance for Existing Affected Facilities”;

b. In paragraph (c), by removing the entry for “7.57,” under the heading “Reg 7-Standards of Performance for New Affected Facilities”;

c. In paragraph (d), by removing the entry for “Bubble action at General Electric in Louisville”; and

d. In paragraph (d), by revising the entries for “Board Order Louisville Medical Center Steam Plant”, and “Board Order Texas Gas Transmission.”

The revisions read as follows:

§ 52.920 Identification of plan.

* * * * *

(c) * * *

* * * * *

Table 2—EPA-Approved Jefferson County Regulation for Kentucky
Reg | Title/subject | EPA approval date | Federal Register notice | District effective date | Explanation
* * * * * * *
Reg 6—Standards of Performance for Existing Affected Facilities
| * * * * * * *
6.29 | Standards of Performance for Existing Graphic Arts Facilities Using Rotogravure and Flexography | 10/12/2017 | [Insert citation of publication] | 8/21/2013 |
| * * * * * * *

(d) * * *

EPA-Approved Kentucky Source-Specific Requirements
Name of source | Permit No. | State effective date | EPA approval date | Explanations
| * * * * * * *
Board Order Louisville Medical Center Steam Plant | NOX RACT Plan 1/18/2017 | 1/18/2017 | 10/12/2017, [Insert citation of publication] |
| * * * * * * *
Board Order Texas Gas Transmission | NOX RACT Plan 5/18/2016 | 5/18/2016 | 10/12/2017, [Insert citation of publication] |
| * * * * * * *

* * * * *

[FR Doc. 2017-21943 Filed 10-11-17; 8:45 am]

BILLING CODE 6560-50-P